DEPARTMENT OF ENERGY

Federal Energy Regulatory Commission

[Docket Nos. CP19-502-000 and CP19-502-001]

Commonwealth LNG, LLC; Notice of Schedule for the Preparation of a Supplemental Environmental Impact Statement for the Commonwealth LNG Project

On November 17, 2022, the Federal Energy Regulatory Commission (Commission or FERC) issued its Order Granting Authorization Under Section 3 of the Natural Gas Act (Order) for Commonwealth LNG, LLC's Commonwealth LNG Project (Project).¹ On July 16, 2024, the U.S. Court of Appeals for the District of Columbia Circuit issued an opinion finding, as relevant here, that FERC failed to properly assess the cumulative effects of the Project's nitrogen dioxide (NO2) emissions, and remanded the Order to FERC for further proceedings.²

¹ Commonwealth LNG, LLC, 181 FERC ¶ 61,143 (2022), order on reh'g, 183 FERC ¶ 61,173 (2023).

² Healthy Gulf v. FERC, 107 F.4th 1033 (D.C. Cir. 2024).

Schedule for Environmental Review

This notice identifies the planned schedule for completion of a supplemental environmental impact statement (SEIS) for the Project to address the issues related to the Commission's analysis of NO2.³

³ In accordance with the Council on Environmental Quality's regulations, the unique identification number for documents relating to this environmental review is SEIS-019-20-000-1732105648. 40 CFR 1501.5(c)(4) (2024).

This planned schedule is based on an issuance of the draft SEIS in February 2025, opening a 45-day comment period.

Issuance of Notice of Availability of the final SEIS May 16, 2025

This notice identifies the Commission's anticipated schedule for issuance of the final order for the Project, which serves as the Commission's record of decision. We currently anticipate issuing a final order for the Project no later than:

Issuance of Final Order July 24, 2025

If a schedule change becomes necessary, additional notice will be provided.

Project Description

The Project consists of two main components: (1) construction and operation of the LNG export terminal, which includes six liquefied natural gas (LNG) plant facilities to liquefy natural gas, six tanks to store the LNG, an LNG carrier loading/berthing facility (marine facility), and other appurtenant facilities; and (2) construction and operation of approximately 3.0 miles of 42-inch-diameter pipeline and one new meter station to deliver natural gas to the terminal. The Project would produce 8.4 million metric tonnes per annum of LNG for export on an average of 156 LNG carriers per year.

Background

On August 20, 2019, as amended July 8, 2021, Commonwealth LNG, LLC filed an application in Docket No. CP19-502-000 requesting authorization pursuant to section 3 of the Natural Gas Act (NGA) and Part 153 of the Commission's regulations to construct and operate a natural gas liquefaction and export facility, including an NGA section 3 natural gas pipeline, in Cameron Parish, Louisiana.

The Commission issued a Notice of Availability of the Draft Environmental Impact Statement on March 31, 2022. On September 9, 2022, the final EIS was issued. As noted above, on November 17, 2022, the Commission issued an order granting authorization for the Project and agreeing with the conclusions presented in the final EIS.

Additional Information

In order to receive notification of the issuance of the SEIS and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP19-502), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: November 27, 2024.
Debbie-Anne A. Reese,
Secretary.

[FR Doc. 2024-28410 Filed 12-3-24; 8:45 am]

BILLING CODE 6717-01-P